SMALL BUSINESS ADMINISTRATION

[Declaration of Economic Injury Disaster #9M19]

State of Florida

Okeechobee and Hendry Counties and the contiguous counties of Broward, Charlotte, Collier, Glades, Highlands, Indian River, Lee, Martin, Osceola, Palm Beach, Polk and St. Lucie in the State of Florida constitute an economic injury disaster loan area as a result of freezing temperatures beginning in November 2000 and continuing through January 2001. Eligible small businesses and small agricultural cooperatives without credit available elsewhere may file applications for economic injury assistance as a result of this disaster until the close of business on April 22, 2002 at the address listed below or other locally announced locations: U.S. Small Business Administration, Disaster Area 2 Office, One Baltimore Place, Suite 300, Atlanta, GA 30308.

The interest rate for eligible small businesses and small agricultural cooperatives is 4 percent.

(Catalog of Federal Domestic Assistance Program No. 59002)

Dated: July 20, 2001.
John Whitmore,
Acting Administrator.

[FR Doc. 01-19120 Filed 7-31-01; 8:45 am]

BILLING CODE 8025-01-P